INTERNATIONAL TRADE COMMISSION

[Investigation Nos. 731-TA-1435-1436 and 1438-1440 (Review)]

Acetone From Belgium, Singapore, South Africa, South Korea, and Spain; Determinations

On the basis of the record ¹ developed in the subject five-year reviews, the United States International Trade Commission (“Commission”) determines, pursuant to the Tariff Act of 1930 (“the Act”), that revocation of the antidumping duty orders on acetone from Belgium, Singapore, South Africa, South Korea, and Spain would be likely to lead to continuation or recurrence of material injury to an industry in the United States within a reasonably foreseeable time.²

¹ The record is defined in § 207.2(f) of the Commission's Rules of Practice and Procedure (19 CFR 207.2(f)).

² Commissioner David S. Johanson not participating.

Background

The Commission instituted these reviews on November 1, 2024 (89 FR 87399) and determined on February 4, 2025 that it would conduct full reviews (90 FR 9553, February 13, 2025). Notice of the scheduling of the Commission's reviews and of a public hearing to be held in connection therewith was given by posting copies of the notice in the Office of the Secretary, U.S. International Trade Commission, Washington, DC, and by publishing the notice in the Federal Register on May 27, 2025 (90 FR 22323).³ The public hearing in connection with these reviews, originally scheduled for October 7, 2025, was cancelled.⁴

³ Due to the lapse in appropriations and ensuing cessation of Commission operations, the Commission tolled its schedule for this proceeding. The schedule was revised in a subsequent notice published in the Federal Register on November 21, 2025 (90 FR 52695).

⁴ 90 FR 52695 (November 21, 2025).

The Commission made these determinations pursuant to section 751(c) of the Act (19 U.S.C. 1675(c)). It completed and filed its determinations in these reviews on January 28, 2026. The views of the Commission are contained in USITC Publication 5694 (January 2026), entitled Acetone from Belgium, Singapore, South Africa, South Korea, and Spain: Investigation Nos. 731-TA-1435-1436 and 1438-1440 (Review).

By order of the Commission.
Issued: January 28, 2026.
Lisa Barton,
Secretary to the Commission.

[FR Doc. 2026-01951 Filed 1-30-26; 8:45 am]

BILLING CODE 7020-02-P